FEDERAL RESERVE SYSTEM

Formations of, Acquisitions by, and Mergers of Bank Holding Companies; Correction

This notice corrects a notice (FR Doc. 04-27829) published on page 76470 of the issue for Tuesday, December 21, 2004.

Under the Federal Reserve Bank of St. Louis heading, the entry for Liberty Bancshares, Inc. is revised to read as follows:

A. Federal Reserve Bank of St. Louis (Randall C. Sumner, Vice President) 411 Locust Street, St. Louis, Missouri 63166-2034:

1. Liberty Bancshares, Inc., Jonesboro, Arkansas; to acquire 100 percent of the voting shares of TrustBanc Financial Group, Inc., Mountain Home, Arkansas, and thereby indirectly acquire TrustBanc, Mountain Home, Arkansas.

In addition, Arkansas Newco II, Inc., Jonesboro, Arkansas, a wholly owned subsidiary of Liberty Bancshares, Inc., also has applied to become a bank holding company by acquiring 100 percent of the voting shares of TrustBanc Financial Group, Inc., Mountain Home, Arkansas, and thereby indirectly acquire voting shares of TrustBanc, Mountain Home, Arkansas.

Comments on this application must be received by January 14, 2005.

Board of Governors of the Federal Reserve System,December 22, 2004.
Jennifer J. Johnson,
Secretary of the Board.

[FR Doc. 04-28450 Filed 12-28-04; 8:45 am]

BILLING CODE 6210-01-S